DEPARTMENT OF DEFENSE

Office of the Secretary

[Docket ID DoD-2020-OS-0088]

Submission for OMB Review; Comment Request

AGENCY: Office of the Under Secretary of Defense for Personnel and Readiness, Department of Defense (DoD).

ACTION: 30-Day information collection notice.

SUMMARY: The Department of Defense has submitted to OMB for clearance the following proposal for collection of information under the provisions of the Paperwork Reduction Act.

DATES: Consideration will be given to all comments received by April 19, 2021.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela James, 571-372-7574, or whs.mc-alex.esd.mbx.dd-dod-information-collections@mail.mil.

SUPPLEMENTARY INFORMATION: Title; Associated Form; and OMB Number: DoD Youth Programs School Leaders Survey; OMB Control Number 0704-YPSL.

Type of Request: New collection.

Number of Respondents: 1,300.

Responses per Respondent: 1.

Annual Responses: 1,300.

Average Burden per Response: 9 minutes.

Annual Burden Hours: 195 hours.

Needs and Uses: The collection has several distinct tasks and includes a focus on the military-civilian divide. This information collection, using a nationally representative panel, is needed to learn about educators' awareness and knowledge of DoD youth programs. The collection will benefit further program and policy changes. This collection is also prescribed by DoDI 1025.8, “National Guard Challenge Program.” The respondents are U.S public and private schools, specifically the leaders or principals of these schools. This information is being collected to better understand how knowledgeable educators are of DoD youth programs.

Affected Public: Individuals or households.

Frequency: Annually.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela James.

Requests for copies of the information collection proposal should be sent to Ms. James at whs.mc-alex.esd.mbx.dd-dod-information-collections@mail.mil.

Dated: March 12, 2021.
Aaron T. Siegel,
Alternate OSD Federal Register Liaison Officer, Department of Defense.

[FR Doc. 2021-05573 Filed 3-17-21; 8:45 am]

BILLING CODE 5001-06-P